DEPARTMENT OF ENERGY

Western Area Power Administration

Floodplain/Wetland Involvement at the Supply Creek Crossing for the Granby Pumping Plant-Marys Lake 69-kilovolt Transmission Line, Grand County, CO

AGENCY: Western Area Power Administration, DOE.

ACTION: Notice of statement of findings.

SUMMARY: This Floodplain/Wetland Statement of Findings for the Supply Creek Crossing, Granby Pumping Plant-Marys Lake 69-kilovolt (kV) Transmission Line was prepared in accordance with the U.S. Department of Energy's (DOE) Floodplain/Wetland Review Requirements. Western Area Power Administration (Western), a power marketing agency of the U.S. Department of Energy (DOE), is the lead Federal agency for a proposal to reroute a 0.8 mile section of the Granby Pumping Plant-Marys Lake 69-kV transmission line. The project is located in Grand County, Colorado, approximately 10 miles north of Granby. Western plans to remove eight wood-pole H-frame structures from the existing right-of-way and relocate them farther to the west, a distance ranging from a few hundred feet to approximately 1,000 feet. All the proposed work will likely occur within a 100-year floodplain of Supply Creek. The existing transmission line and the proposed reroute cross a wetland associated with Supply Creek, and an irrigated meadow. Western has prepared a floodplain/wetland assessment and based on its findings, found no practicable alternative to avoiding the floodplain/wetlands of Supply Creek.

FOR FURTHER INFORMATION CONTACT: Mr. Rodney Jones, Environmental Specialist, Rocky Mountain Customer Service Region, Western Area Power Administration, P.O. Box 3700, Loveland, CO 80539-3003, telephone (970) 461-7371, e-mail rjones@wapa.gov. For further information on DOE Floodplain/Wetlands Environmental Review Requirements, contact Ms. Carol M. Borgstrom, Director, NEPA Policy and Compliance, EH-42, U.S. Department of Energy, 1000 Independence Avenue, SW., Washington, DC 20585, telephone (202) 586-4600 or (800) 472-2756.

SUPPLEMENTARY INFORMATION: This Statement of Findings for the proposal to relocate a 0.8 mile section of the Granby Pumping Plant-Marys Lake 69-kV transmission line was prepared in accordance with DOE's Floodplain/Wetland Review Requirements 10 CFR part 1022. A notice of floodplain/wetland involvement was published in the Federal Register on November 23, 2001 (66 FR 226). A 15-day public review period following the publication of this statement of findings has been waived per 10 CFR part 1022.18(c). No comments were received on the notice. There was one request for a copy of the floodplain/wetlands assessment.

The Supply Creek Crossing is located approximately 2 miles to the south-southwest of the town of Grand Lake and 1 mile west of Shadow Mountain Lake in Grand County, Colorado. The project area encompasses portions of the south ½ of section 11 and the northwest ¼ of section 14, T. 3 N., R.76 W. The property is privately owned. Current land use is ranching, grazing, and hay production. The Granby Pumping Plant to West Portal portion of the Granby Pumping Plant-Marys Lake 69-kV transmission line was constructed in 1939. Due to the age of this transmission line, Western has routinely tested and replaced deteriorated wood-pole structures on the transmission line as needed. A landowner approached Western and requested that a section of the transmission line on his property be relocated to facilitate ongoing ranching operations. The relocation of the line will also benefit Western's operation and maintenance activities in a number of ways. The relocated line will be in an area that is less wet and more accessible for routine inspections and maintenance. Access to the existing section of transmission line for maintenance is difficult due to hay meadow irrigation and naturally wet conditions. Western plans to remove eight wood-pole H-frame structures from the existing right-of-way and relocate them farther to the west, a distance ranging from a few hundred feet to approximately 1,000 feet. Western is the lead Federal agency for a proposal to reroute a 0.8 mile section of the Granby Pumping Plant-Marys Lake 69-kV transmission line. This action is categorically excluded under DOE's National Environmental Policy Act Implementing Procedures (10 CFR part 1021).

The reroute for the proposed project was selected because it avoids interfering with the landowner's ranching operations; and it moves the right-of-way into an area with relatively drier conditions than the existing right-of-way. Western could leave the line where it is and continue to replace deteriorating structures as needed. However, this would not solve the conflict with the landowner's planned ranch operations.

The project will require construction activities within a floodplain and a wetland. This includes removing eight existing wood-pole H-frame transmission line structures and installing eight similar structures within a new relocated right-of-way. The structures located at either end of the relocation may be modified, or reconstructed, at their existing location. Most construction activities would take place during the early months of 2002 when the ground is frozen to facilitate access in the extremely wet areas. This action would conform to applicable State or local floodplain protection standards.

Western prepared a floodplain/wetlands assessment describing the effects, alternatives, and measures designed to avoid or minimize potential harm to or within the affected floodplain. There is no practicable alternative to locating structures within the floodplain and wetlands of Supply Creek. Environmental impacts associated with the proposed project are expected to be minimal. Habitat within the southern two-thirds of the project area is native and tame pasture grasses with wet meadows. Supply Creek crosses under the line in the northern third of the property. The habitat in this area is an open-canopy, willow/shrub. The open meadow and creek areas are either grazed or mowed at least annually. There are several ranch buildings east of the existing line, as well as a large developed residential area. Relocation of the line within the same meadow and wetland area will have minimal impact. Since construction activities are scheduled to commence during the winter, minimal impact to Supply Creek and its aquatic habitat, vegetation, and soils would result.

The project would not affect existing flood characteristics. No watercourses or drainage patterns will be affected by the project. No construction will occur within Supply Creek. Flood storage volume will not be affected. No change in flood stage characteristics would occur.

A small increased risk of pollution would result from having construction equipment working in the floodplain. This includes the risk of accidental oil or fuel spills from malfunctioning equipment. Given the size of equipment involved and the amount of potential spill material, this risk is considered very low. If a spill were to occur it would be minor and could be readily contained and cleaned up.

Steps will be taken to minimize harm to the 100-year floodplain of Supply Creek, and include restricting vehicular traffic to necessary construction equipment, refueling equipment, if necessary, outside the floodplain or the surrounding wet meadow, and preventing vehicles with leaks and seeps from entering the floodplain. Due to the need to complete the work before the ground thaws and maintain project effectiveness, the 15-day public review period following the publication of this statement of findings has been waived per 10 CFR part 1022.18(c).

Dated: February 20, 2002.
Michael S. Hacskaylo,
Administrator.

[FR Doc. 02-4618 Filed 2-26-02; 8:45 am]

BILLING CODE 6450-01-P